DEPARTMENT OF LABOR

Employment and Training Administration

[TA-W-41,564]

Domtar A.W., Port Edwards, WI; Notice of Termination of Investigation

Pursuant to Section 221 of the Trade Act of 1974, an investigation was initiated on May 20, 2002 in response to a petition filed by a company official on May 3, 2002 on behalf of workers at Domtar A.W., Port Edwards, Wisconsin.

The petitioner has requested that the petition be withdrawn. Consequently, further investigation in this case would serve no purpose, and the investigation has been terminated.

Signed in Washington, DC this 19th day of August, 2002
Elliott S. Kushner,
Certifying Officer, Division of Trade Adjustment Assistance.

[FR Doc. 02-22956 Filed 9-9-02; 8:45 am]

BILLING CODE 4510-30-P